DEPARTMENT OF ENERGY

DOE Response to Recommendation 2004-1 of the Defense Nuclear Facilities Safety Board, Oversight of Complex, High-Hazard Nuclear Operations

AGENCY: Department of Energy.

ACTION: Notice.

SUMMARY: The Defense Nuclear Facilities Safety Board Recommendation 2004-1, concerning oversight of complex, high-hazard nuclear operations was published in the Federal Register on June 7, 2004 (69 FR 31815). In accordance with section 315(b) of the Atomic Energy Act of 1954, as amended, 42 U.S.C. 2286d(b), the Secretary transmitted the following response to the Defense Nuclear Facilities Safety Board on July 21, 2004.

DATES: Comments, data, views, or arguments concerning the Secretary's response are due on or before September 7, 2004.

ADDRESSES: Send comments, data, views, or arguments concerning the Secretary's response to: Defense Nuclear Facilities Safety Board, 625 Indiana Avenue NW, Suite 700, Washington, DC 20004.

FOR FURTHER INFORMATION CONTACT: Mr. Theodore D. Sherry, Deputy Manager, Department of Energy, NNSA Y-12 Site Office, 200 Administration Road, P.O. Box 2001, Oak Ridge, TN 37830.

Issued in Washington, DC on August 2, 2004.
Mark B. Whitaker, Jr.,
Departmental Representative to the Defense Nuclear Facilities Safety Board.

BILLING CODE 6450-01-P

[FR Doc. 04-18244 Filed 8-9-04; 8:45 am]

BILLING CODE 6450-01-C